DEPARTMENT OF TRANSPORTATION

Coast Guard

[USCG 2000-7672]

Establishment of Pilot Program to Exempt Certain Vessels From Inspection as Seagoing Motor Vessels

AGENCY: Coast Guard, DOT.

ACTION: Notice of pilot program.

SUMMARY: The Coast Guard establishes a pilot program to exempt certain seagoing motor vessels from the requirement that they be inspected. The program will give the Coast Guard an opportunity to assess whether current requirements for inspection are beneficial (and, if they are not, reduce or eliminate them), without jeopardizing safety. This notice announces implementation of the program, and establishes procedures for participation in the program.

DATES: Written requests for participation in the pilot program must arrive no later than November 13, 2000.

FOR FURTHER INFORMATION CONTACT: For questions on this Notice, contact LT Dean Firing, Domestic Vessel Compliance Division (G-MOC-1), U.S. Coast Guard Headquarters, 2100 Second Street SW., Washington, DC 20593-0001, telephone 202-267-0514, fax 202-267-4394, e-mail: DFiring@comdt.uscg.mil.

SUPPLEMENTARY INFORMATION:

Background and Purpose

Subsection 412(b) of the Coast Guard Authorization Act of 1998 [Public Law 105-383] granted the Secretary of Transportation discretionary authority to establish a pilot program exempting certain seagoing motor vessels from the inspection requirements under 46 U.S.C. 3301(7). Under certain conditions, seagoing motor vessels of 300 gross tons or more, as measured under 46 U.S.C. chapter 143 or 145, may participate in the program as long as they do not (a) carry any cargo or passengers for hire; (b) engage in commercial service, commercial fisheries, or oceanographic research; or (c) engage in other than “good-samaritan” towing.

Although no treaties require recreational vessels in general to be inspected or certified, 46 U.S.C. 3301(7) requires seagoing motor vessels of 300 gross tons or more to be inspected and certificated by the Coast Guard, regardless of their functions, flags, or uses. Owners and operators of commercial, research, and recreational seagoing motor vessels face the same requirements. Subsection 3301(7) has discouraged potential owners of these large recreational vessels from building, and actual owners from registering, such vessels in the United States. We expect the prospect of exemption provided by the pilot program to encourage the building and registering of such vessels here by reducing or eliminating the burden of inspection, without compromising safety. Participating vessels must follow all other applicable Federal, State, and local requirements such as those on loadlines, manning, and pollution prevention.

Owners and operators of vessels who would like to participate in the pilot program must submit requests in writing to the Coast Guard. We will evaluate requests case by case, considering the unique characteristics of each vessel. We will continue to inspect vessels that do not participate in the program. Instead of Certificates of Inspection, participating vessels will receive exemption letters from Commandant (G-MOC).

Owners or operators of four vessels have submitted requests in writing to participate in the pilot program. We are considering their requests and will consider all others submitted to us on or before November 13, 2000.

Which Vessels May Qualify to Participate in the Pilot Program?

Seagoing motor vessels of 300 gross tons or more, as measured under 46 U.S.C. chapter 143 or 145, may qualify to participate in the program, as long as they do not (a) carry any cargo or passengers for hire; (b) engage in commercial service, commercial fisheries, or oceanographic research; or (c) engage in other than “good-samaritan” towing.

How Do I Get an Exemption?

Written requests for vessels to participate in the pilot program must arrive on or before November 13, 2000. Send them to: Commandant, U.S. Coast Guard (G-MOC), U.S. Coast Guard Headquarters, 2100 Second Street SW., Washington, DC 20593-0001.

The Commandant (G-MOC) will determine case by case whether vessels may participate. You should furnish enough information in your request to let the Commandant determine this. We may ask for more information; but you should furnish at least this much:

(a) A detailed description of the vessel, including its identification number, owner, and flag.

(b) A statement describing the intended use of the vessel. You do not have to include this statement if the vessel's Certificate of Documentation is endorsed only for recreation.

(c) A statement indicating that the vessel meets the qualifying conditions: does not carry any cargo or passengers for hire; engage in commercial service, commercial fisheries, or oceanographic research; or engage in other than “good-samaritan” towing.

(d) A statement indicating that the vessel meets requirements under 46 U.S.C. chapter 43 for recreational vessels, and related regulatory requirements for recreational boating. The vessel must also meet all other applicable statutes and rules such as those on loadlines, manning, and pollution.

How Do I Know Whether I Have Got an Exemption?

The Commandant (G-MOC) will notify you by letter if he approves your request. You will have to carry this letter onboard the vessel. An exemption will remain in effect as long as the vessel remains qualified. If the vessel's operating conditions do change, you must notify the Commandant (G-MOC) in writing within 30 days of their changing. The Commandant (G-MOC) will review them and determine whether the exemption is still valid.

When Will the Pilot Program Expire

Our authority to grant exemptions under this program expires November 13, 2000: Written requests to participate in the program must arrive on or before then. Any exemption granted will remain in effect as long as the vessel remains qualified. No vessel will remain qualified if it (a) carries any cargo or passengers for hire; (b) engages in commercial service, commercial fisheries, or oceanographic research; or (c) engages in other than “good-samaritan” towing.

Dated: July 19, 2000.
Joseph J. Angelo,
Director of Standards, Marine Safety and Environmental Protection.

[FR Doc. 00-18934 Filed 7-25-00; 8:45 am]

BILLING CODE 4910-15-P